DEPARTMENT OF HEALTH AND HUMAN SERVICES

Centers for Disease Control and Prevention

Cooperative Agreements for Tribes and Tribal Organizations for Tobacco Prevention and Control

Announcement Type: New.

Funding Opportunity Number: AA066.

Catalog of Federal Domestic Assistance Number: 93.283.

Application Deadline: August 15, 2005.

I. Funding Opportunity Description

Authority: 301 (a) and 317(k)2), [42 U.S.C.,241 (a) and Section 247b(k)(2)].

Background

Among American Indian and Alaska Native men and women, rates of smoking are substantially higher than smoking rates in any other U.S. subgroup. In 2000, the Centers for Disease Control and Prevention (CDC), Office on Smoking and Health (OSH) began efforts to specifically address the burden of tobacco use among American Indians and Alaska Natives (AI/AN). The five-year cooperative agreement Program Announcement (PA) 00065 focused on building capacity and infrastructure to prepare tribes and tribal communities, to conduct evidence-based tobacco control and prevention activities. CDC funded seven tribes and tribal organizations under this cooperative agreement which ends in September, 2005 (e.g., recognized governing body of any Indian Tribe; any legally established organization of American Indians and Alaska Natives which is controlled, sanctioned, or chartered by such governing body or which is democratically elected by the adult members of the community to be served by such organization and which includes the maximum participation of Indian Tribe members in all phases of its activities (25 U.S.C. 450b). The work that was conducted by the grantees improved the capacities of tribes and AI/AN communities to conduct culturally-competent tobacco control and prevention activities, especially in populations where tobacco is held in high esteem and is used for ceremonial, medicinal, and other cultural purposes. The grantees were also instrumental in developing culturally appropriate education materials which need to be tested for their relevance and usefulness in other regions/tribes.

Purpose

The purpose of this program is to support American Indian and Alaska Native (AI/AN) tribes and tribal organizations to: (1) Lead regional efforts to prevent and reduce the use of tobacco and exposure to secondhand smoke (capacity program) and (2) conduct evaluation and implementation of culturally relevant and community competent tobacco control and prevention strategies for use with broader AI/AN populations in addition to continuing regional capacity building efforts (implementation program.) This program addresses the “Healthy People 2010” focus area of tobacco use. This announcement is related to the two primary goals of: (1) Increasing quality and years of healthy life; and (2) eliminating health disparities among segments of the population, including differences that occur by gender, race or ethnicity, education or income, disability, geographic location, or sexual orientation.

Measurable outcomes of the program will be aligned with the following National Tobacco Control Program goals:

(1) Prevent initiation of tobacco use among young people.

(2) Promote cessation of tobacco use among youth and adults.

(3) Protect the public from secondhand smoke exposure.

(4) Identify and eliminate disparities in tobacco use among population groups.

Measurable outcomes of the program will be in alignment with the following performance goal for the National Center for Chronic Disease Prevention and Health Promotion (NCCDPHP) Office on Smoking and Health (OSH): Reduce cigarette smoking among youth.

This announcement is only for non-research activities supported by CDC/ASTDR. If research is proposed, the application will not be reviewed. For the definition of research, please see the CDC Web site at the following Internet address: http://www.cdc.gov/od/ads/apspolll.htm

Activities

Awardee activities for this program are as follows:

A. Capacity

1. Establish a technical Program and assist tribes and/or AI/AN populations with data collection, identification and dissemination of resources, training and education development and implementation, evaluation, and other needs.

2. Identify experts and train AI/AN leaders.

3. Establish AI/AN tobacco control and prevention councils and partnerships. Promote and facilitate collaboration among tribes, tribal organizations, and non-tribal partners such as national, state, and local tobacco control organizations or networks (e.g. American Cancer Society, state and local health departments, etc.)

4. Develop communication systems for sharing and disseminating information.

5. Identify policies that benefit tribal communities.

6. Identify and leverage resources.

7. Develop a plan and set priorities for building capacity and infrastructure.

8. Identify and document proven and promising strategies in AI/AN communities.

9. Participate in regional and national information sharing exchange.

10. Provide administrative and financial management of the program.

11. Evaluate progress towards program objectives.

Performance measures for Capacity activities include:

• Program Management: Identify and hire staff with appropriate competencies to manage a Capacity Program Center. A suggested minimum number of staff is one to two full-time equivalents (FTEs), including one FTE Program Manager and one (or a half-time) FTE Program Specialist. Performance will be measured by evidence that the applicant has dedicated human resources to administer and manage the program effectively.

• Financial Management: Appropriately use funds to maintain the program based on the scope of work within the approved Annual Action Plan (AAP) and budget. Performance will be measured by successful and timely completion and submission of Financial Status Reports and Semi-Annual and Annual Progress Reports that detail progress, barriers and completion of program objectives identified in the AAP.

• Program and Evaluation Plans: Develop annual action and evaluation plans with active participation from members of represented tribes or from members of the Board of Directors. The AAP should include: Description of program goals and objectives, strategies or activities to meet the objectives, responsibility areas, and timeframes. An evaluation plan should include a logic model linking activities to outputs and short-term and intermediate outcomes using Specific, Measurable, Achievable, Relevant, and Time-bound (SMART) program objectives. Performance will be measured by evidence that the annual program and evaluation plans have been submitted and will be reviewed routinely.

• Communication with Partners: Actively communicate and share information with other tribes, tribal/urban AI and AN organizations, networks, partners, State health departments and CDC/OSH. Performance will be measured by participation in a communication system (i.e. participating on CDC sponsored workgroups or taskforces; meetings, conferences; and presenting and/or publishing programs outcomes) for the exchange and dissemination of information.

• Training and technical assistance: Provide training and technical assistance to Program, Tribal leaders and councils, AI/AN tribes and tribal organizations, non-tribal partners and other leadership entities.

B. Implementation

1. Develop and tailor strategies and program interventions that reduce tobacco use and exposure that are derived from evidence-based recommendations (Guide to Community Preventive Services) Only when not available and in consultation with CDC OSH, develop materials, tool kits, pamphlets and brochures that are specific for AI/AN populations.

2. Implement proven and promising practices.

3. Evaluate promising programs and strategies for cultural relevance, community competence, program effectiveness and ability to replicate in AI/AN communities. Examples include policy manuals, cessation curricula and media campaigns.

4. Collaborate with OSH on evaluation of interventions and dissemination of findings.

5. Collect information to inform program development, implementation and evaluation using talking circles, focus groups and other activities.

6. Develop communication systems for sharing and disseminating information.

7. Continue and expand programmatic efforts with AI/AN tribes and tribal organizations to reduce tobacco use and exposure.

8. Provide guidance and mentoring to Capacity Programs.

9. Develop a plan for sustaining program efforts in the future.

10. Provide administrative and financial management of the program.

11. Evaluate progress towards program objectives.

Performance measures for Implementation activities include:

• Program Management: Identify and hire staff with appropriate competencies to manage a Capacity Program. A suggested minimum number of staff is one-to-two full-time equivalents (FTEs), including one FTE Program Manager and one (or a half-time) FTE Program Specialist. Performance will be measured by evidence that the applicant has dedicated human resources to administer and manage the program effectively.

• Financial Management: Appropriately use funds to maintain the program based on the scope of work within the approved Annual Action Plan (AAP) and budget. Performance will be measured by successful and timely completion and submission of Financial Status Reports and Semi-Annual and Annual Progress Reports that detail progress, barriers and completion of program objectives identified in the AAP.

• Program and Evaluation Plans: Develop annual action and evaluation plans with active participation from members of represented tribes or from members of the Board of Directors. The AAP should include: description of program goals and objectives, strategies or activities to meet the objectives, responsibility areas, and timeframes. An evaluation plan should include a logic model linking activities to outputs and short-term and intermediate outcomes using Specific, Measurable, Achievable, Relevant, and Time-bound (SMART)program objectives. Performance will be measured by evidence that the annual program and evaluation plans have been submitted and will be reviewed regularly.

• Communication with Partners: Actively communicate and share information with other tribes, tribal/urban AI and AN organizations, networks, partners, State health departments and CDC/OSH. Performance will be measured by participation in a communication system (i.e. participating on CDC sponsored workgroups or taskforces; meetings, conferences; and presenting and/or publishing programs outcomes) for the exchange and dissemination of information.

• Training and Technical Assistance: Provide training and technical assistance to Program staff, Tribal leaders and councils, AI/AN tribes and tribal organizations, non-tribal partners and other leadership entities.

In a cooperative agreement, CDC staff is substantially involved in the program activities, above and beyond routine grant monitoring.

CDC activities for this program are as follows:

Capacity and Implementation

1. Provide consultation and technical assistance in the planning, implementation, and evaluation of program activities.

2. Provide up-to-date information that includes diffusion of proven and promising practices and current research and data in areas of tobacco use control and prevention.

3. Facilitate communication activities among Capacity and Implementation Programs, such as holding meetings, conferences, and conference calls to foster the transfer of information and knowledge of successful tobacco-related disparities interventions and promising program models.

4. Facilitate mentoring opportunities by holding workshops, trainings, and skill building and exchange seminars to increase capacity and infrastructure development of awardees.

5. Assist in identifying and addressing issues related to sustainability of programs.

6. Participate in the monitoring and evaluation of program activities and initiatives, including annual site visits.

II. Award Information

Type of Award: Cooperative Agreement. CDC involvement in this program is listed in the Activities Section above.

Fiscal Year Funds: 2005.

Approximate Total Funding: $1,700,000. (This amount is an estimate and is subject to availability of funds.)

Approximate Number of Awards: Four to Six awards in Capacity program and three to five awards in Implementation Program.

Approximate Average Award: $175,000 for Capacity programs and $250,000 for Implementation programs. (This amount is for the first 12-month budget period and includes both direct and indirect costs.)

Floor of Award Range: None.

Ceiling of Award Range: $200,000.00 for Capacity program and $275,000.00 for Implementation program. (This ceiling is for the first 12-month budget period.)

Anticipated Award Date: August 31, 2005.

Budget Period Length: 12 months.

Project Period Length: Five years.

Throughout the project period, CDC's commitment to continuation of awards will be on the condition that funds are available, that there is evidence of satisfactory progress by the recipient (as documented in required reports), and that continued funding is determined to be in the best interest of the Federal Government.

III. Eligibility Information

III.1. Eligible applicants

Applications may be submitted by federally recognized AI/AN tribes and tribal organizations. Organizations must be incorporated for the primary purpose of improving AI/AN health and must represent such interests for the tribes or urban AI/AN populations located in its service region. An urban organization is defined as a non-profit corporate body situated in an urban center eligible for services under Title V of the Indian Health Care Improvement Act, Pub. L. 94-437, as amended.

Justification for Limited Competition

For Capacity program, competition is limited to federally recognized tribes and tribal organizations that will serve AI/AN populations that have a high burden of tobacco use and have not been served by a tribe or tribal organization that was funded under Program Announcement (PA) 00065. The target populations are tribes and AI/AN populations that have substantial tobacco related health disparities and receive minimal or no funding support for tobacco control and prevention program development from other sources. If an applicant is from a tribe or tribal organization that has been funded under PA 00065, they can apply for a Capacity program only if they will expand their reach and serve tribes and AI/AN populations that have not been served by the applicant before. In their previous relationships with CDC-OSH, these awardees acquired knowledge and skills about the science and practice of tobacco control and prevention and can use that experience in working with other tribes and populations.

For Implementation program, competition is limited to federally recognized tribes and tribal organizations that have developed AI/AN culturally-specific manuals, campaigns, and curricula and want to evaluate them for use with broader AI/AN populations. These tribes and tribal organizations may have been recipients under PA 00065 and may have the knowledge and experiences in conducting tobacco control and prevention and in developing promising and proven interventions appropriate for use with tribes and tribal communities. Such tribes and tribal organizations have prior experiences responding to the unique needs among this population to address the burden of tobacco use and resulting tobacco-related disparities in a way that is culturally appropriate and acceptable. Since there are high tobacco use rates within this target population and since Indian Tribes exercise inherent sovereign powers and responsibilities over their members and territory, and since there is a requirement that Indian Tribes be involved in the development of relevant and culturally appropriate approaches to public issues and program activities this program announcement is limited to tribes and tribal organizations who have a proven track record of working with this population and who have the abilities to reach the people who have not been reached within this population and to work toward closing the tobacco use rate gaps within this population.

III.2. Cost Sharing or Matching

Matching funds are not required for this program.

III.3. Other

If a funding amount greater than the ceiling of the award range is requested, the application will be considered non-responsive and will not be entered into the review process. The applicant will be notified that the application did not meet the submission requirements

Special Requirements

Eligible AI/AN tribes and tribal organizations must meet all of the criteria listed below and provide evidence of eligibility by attaching a copy of Addendum 3, Eligibility Certification Form to the application proposal.

Capacity

a. AI/AN tribes or tribal organizations with a total service population of at least 40,000 tribal members or urban residents who are enrolled members of federally recognized tribes. Tribes or organizations that may have been funded previously under PA 00065 are eligible to apply if they expand their coverage to reach the 40,000 minimum population requirement in adjacently-located AI/AN tribes and/or AI/AN populations that have not been previously served by a CDC funded tribe or tribal organization. These include tribes in the following states or geographical regions: Southern California, Nevada, Utah, Montana, Wyoming, Colorado, New Mexico, Kansas, Oklahoma (excluding Muscogee Creek Nation), Minnesota, Wisconsin, Texas, Louisiana, Mississippi, Alabama, Florida, South Carolina, North Carolina, New York, Connecticut, Massachusetts, Rhode Island, Maine, the Navajo Nation, and American Indians residing in urban areas.

b. At least one year of experience in operating a tobacco control or other public health program(s) that serves the AI and/or AN population.

c. Letters of support or resolutions from Tribal Councils or Governments from at least 50 percent of the tribes that have not previously been served by a CDC funded tribe or tribal organization. For applicants proposing to serve urban population(s), letters of support from national organizations that exist to serve AI/AN health-related interests should be provided.

d. The mission of the applicant must demonstrate a commitment to improve the health of the AI/AN populations it proposes to serve.

e. One year of experience conducting process and/or outcome evaluations of public health/community programs.

f. For those applicants applying as a private, nonprofit organization, proof of tax exempt status must be provided with the application.

Implementation

a. AI/AN Tribes and tribal organizations who have experience developing AI/AN culturally-specific manuals, campaigns and curricula and want to evaluate and implement one or more of them to achieve the scientific basis that it is effective for use with AI/AN populations. Examples of developed products include policy manuals, media campaigns, and cessation curricula.

b. At least three years of experience operating a tobacco control and prevention program that serves the AI/AN population.

c. Letters of support or resolutions from Tribal Councils or Governments from at least 50 percent of the tribes to be served.

d. The mission of the applicant must demonstrate a commitment to improve the health of the AI/AN populations it proposes to serve.

e. One year of experience conducting process and/or outcome evaluations of public health/community programs.

Applications will be considered incomplete if any of the following eligibility requirements are not met:

• Service population requirement;

• Required letters of support;

• Required statement of commitment to improve the health of the AI/AN population it proposes to serve;

• Required experience in tobacco control or public health;

• Required experience in process or outcome evaluations;

• If applicable, non-profit status.

Applicant must document eligibility requirements accordingly:

• Documentation of service population in narrative under “Executive Summary';

• Attachment of letters of support or resolutions in the appendix;

• Documentation of mission and commitment to improve the health of the AI/AN population it proposes to serve in the appendix;

• Documentation of experience in tobacco control or public health in the narrative under “Capacity”;

• Documentation of experience in evaluation in the narrative under “Capacity”;

• If applicable, proof of 501(c)(3) status in appendix.

Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1.

Electronic Submission

CDC strongly encourages the applicant to submit the application electronically by utilizing the forms and instructions posted for this announcement on www.Grants.gov, the official Federal agency wide E-grant Web site. Only applicants who apply on-line are permitted to forego paper copy submission of all application forms.

Paper Submission

Application forms and instructions are available on the CDC Web site, at the following Internet address: www.cdc.gov/od/pgo/forminfo.htm

If access to the Internet is not available, or if there is difficulty accessing the forms on-line, contact the CDC Procurement and Grants Office, Technical Information Management Section (PGO-TIM) staff at 770-488-2700 and the application forms can be mailed.

IV.2. Content and Form of Submission

Application: A project narrative must be submitted with the application forms. A separate application is required for Capacity and Implementation. The narrative must be submitted in the following format:

• Maximum number of pages: 21. If your narrative exceeds the page limit, only the first pages which are within the page limit will be reviewed.

• Font size: 12 point unreduced.

• Double spaced.

• Paper size: 8.5 by 11 inches.

• Page margin size: One inch.

• Printed only on one side of page.

• Held together only by rubber bands or metal clips; not bound in any other way.

• Applicants must identify whether they are applying for the Capacity or Implementation program in the cover page or letter.

Capacity applicants: The narrative should address activities to be conducted over the entire project period, and must include the following items in the order listed.

1. Executive Summary (Two-Three Pages)

a. Describe the AI/AN tribe or tribal organization and include purpose or mission, years of existence, and experience in representing the healthcare interests of the represented tribes and/or AI/AN populations.

b. Describe the represented tribes and/or AI/AN populations and include the population size of the total tribes/populations represented, geographical locations of tribes/populations, and proximity to applicant. For applicants who were funded under PA 00065 and are applying to extend outreach of their services to adjacent tribe(s) that have not been previously served by a tribe or tribal organization funded by CDC describe the tribes that will be outreached, their population size, and geographical locations and proximity to applicant.

c. Describe applicant's experience, capacity, and readiness to implement the program. Discuss the organizational structure and how it would support the implementation of the proposed program.

2. Narrative (Not More Than 18 Pages)

a. Need

Describe the needs for developing culturally relevant and community competent tobacco control programs among the tribes/populations to be served and how the applicant will assist AI/AN tribes and populations in addressing the identified needs. This information should include:

• Discussion of the extent of the tobacco use problem in tribe(s) and/or population to be served.

• Description of the gaps, challenges, limitations and/or opportunities for implementing tobacco control and prevention strategies.

• Description of need to develop comprehensive and sustainable tobacco control programs among the represented tribes.

b. Annual Action Plan (AAP)

Provide a narrative that describes your AAP including cultural relevant and community competent strategies to reduce tobacco use and exposure in the AI/AN population. In addition to the narrative, applicants are encouraged to use the AAP format included as Addendum 6 to summarize the key elements of the plan. The AAP should include the following:

• Goals and Objectives: Develop SMART objectives to be accomplished during the first year. Describe possible barriers to or facilitators for reaching each objective.

• Strategies and activities: For each objective, describe the strategies to meet the objectives and accomplish the recipient activities.

Timeline: Provide a timeline that identifies major activities and assigns approximate dates for their inception and completion.

• Tracking progress: Provide indicators of how you will monitor and track progress toward accomplishing activities.

• Responsible party: Identify person(s) or party(ies) responsible for overseeing the activities.

c. Program Management

• Describe how you will manage the project to accomplish recipient activities. Identify any anticipated challenges and how you will address them.

• Describe the proposed project staffing. Staffing should include the commitment of at least one to two full-time staff members to provide direction for the proposed activities.

• Demonstrate that staff members have the professional background, experience, and organizational support needed to fulfill the proposed responsibilities. Include curriculum vitae (limit to 2 pages) for each staff member and job descriptions for staff not yet identified.

d. Capacity

• Describe relevant experiences and successes in developing and administering health-related programs for AI/AN tribes and/or populations. Be specific about the scope of programs, dates and duration, and whether the public health experience was at the tribal, regional or national level.

• Provide letters of support from at least 50 percent of the represented tribes. Awardees funded under PA # 00065 and applying for a Capacity program must provide letters of support from at least 50 percent of the tribes which they will serve and which have not been previously served by a CDC funded tribe or tribal organization. Applicants proposing to serve urban population(s) must provide letter(s) of support from national organization(s) that represent AI/AN health interests.

• Provide documentation of the applicant's mission and commitment to improve the health of the AI/AN population it proposes to serve.

• Describe how the applicant communicates and disseminates information to the served tribes and their membership (e.g. newsletter, Websites, meetings, conferences, etc.)

• Submit a copy of the applicant's organizational chart and describe how the structure supports the development of a tobacco control and prevention program for the organization or for the tribes that will be served.

Submit a copy of the tax-exempt status, if applicable.

e. Evaluation and Logic Model

• Provide a description of the evaluation and monitoring process to be used to track and measure progress in meeting objectives in the AAP. Describe how results will be reported and used. Designate who will oversee the evaluation design and process.

f. Budget and Accompanying Justification

Provide a line item budget and detailed justification for the first year. The budget should be consistent with stated goals and planned activities outlined in the AAP. To the extent necessary, applicants are encouraged to include budget items for the following: Travel for the following meetings:

i. Program Manager to attend a reverse site visit to Atlanta, GA within sixty (60) days of project start to meet with Project Officer and other OSH Staff and review the annual action plan, technical assistance needs and resources. First year only.

ii. One to two staff to Atlanta, GA to attend the National Tobacco Control Program annual 2.5 day CDC-sponsored training workshop.

iii. One to two staff to attend Annual Program Training and Workshop—location TBD.

iv. If needed—a computer, modem, communication software, and a dedicated telephone line to support routine participation in web-related communications with tribes and partners.

If proposed contractors are known at the time of the application, provide the following:

1. Name of contractor/consultant.

2. Method of selection.

3. Method of accountability.

4. Scope of service.

5. Period of performance.

6. Detailed budget and justification.

Implementation applicants: The narrative should address activities to be conducted over the entire project period, and must include the following items in the order listed.

1. Executive Summary (2-3 Pages)

a. Describe the AI/AN tribe or tribal organization and include purpose or mission, years of existence, and experience in tobacco control and prevention.

b. Describe applicant's experience, capacity, and readiness to implement the program. Discuss the organizational structure and how it would support the implementation of the proposed program.

C. Describe promising programs to be evaluated for cultural relevance, community competence, effectiveness and ability to replicate.

2. Narrative (Not More Than 18 Pages)

a. Need

Describe the need for implementing and evaluating proven and promising strategies, including:

• Need for developing culturally relevant and community competent interventions.

• Need for assisting Capacity programs in developing their capacity and infrastructure to deliver interventions.

• Need for assisting tobacco control and prevention partners with outreach efforts to AI/AN tribes.

• Need to develop comprehensive and sustainable tobacco control programs among the represented tribes.

b. Annual Action Plan (AAP)

Provide a narrative that describes your AAP including cultural relevant and community competent strategies to reduce tobacco use and exposure in the AI/AN population. In addition to the narrative, applicants are encouraged to use the AAP format included as Addendum 6 to summarize the key elements of the plan. The AAP should include the following:

• Goals and Objectives: develop SMART objectives (Specific, Measurable, Achievable, Relevant, and Time-phased) to be accomplished during the first year. Describe possible barriers to or facilitators for reaching each objective.

• Strategies and activities: For each objective, describe the strategies to meet the objectives and accomplish the recipient activities.

• Timeline: Provide a timeline that identifies major activities and assigns approximate dates for their inception and completion.

• Tracking progress: Provide indicators of how you will monitor and track progress toward accomplishing activities.

• Responsible party: Identify person(s) or party(ies) responsible for overseeing the activities.

c. Program Management

• Describe how you will manage the project to accomplish recipient activities. Identify any anticipated challenges and how you will address them.

• Describe the proposed project staffing. Staffing should include the commitment of at least one to two full-time staff members to provide direction for the proposed activities.

• Demonstrate that staff members have the professional background, experience, and organizational support needed to fulfill the proposed responsibilities. Include curriculum vitae (limit to 2 pages) for each staff member and job descriptions for staff not yet identified.

d. Capacity

• Describe relevant experiences and successes in developing and administering tobacco control for AI/AN tribes and/or populations, including discussion of: specific developed capacities that will enable mentoring for other tribes and tribal organizations and relationships with other tribal and non-tribal partners.

• Provide letters of support from at least 50 percent of the represented tribes.

• Provide documentation of the applicant's mission and commitment to improve the health of the AI/AN population it proposes to serve.

• Submit a copy of the applicant's organizational chart and describe how the structure supports the development of the proposed program.

Submit a copy of the tax-exempt status, if applicable.

e. Evaluation and Logic Model

• Provide a description of the evaluation and monitoring process to be used to track and measure progress in meeting objectives in the AAP. Describe how results will be reported and used. Designate who will oversee the evaluation design and process.

• Provide an evaluation logic model that links program activities to outputs and short-term and intermediate outcomes.

f. Budget and Accompanying Justification

Provide a line item budget and detailed justification for the first year. The budget should be consistent with stated goals and planned activities outlined in the AAP. To the extent necessary, applicants are encouraged to include budget items for the following: Travel for the following meetings:

i. Program Manager to attend a reverse site visit to Atlanta, GA within sixty (60) days of project start to meet with Project Officer and other OSH Staff and review the annual action plan, technical assistance needs and resources. First year only.

ii. One to two staff to Atlanta, GA to attend the National Tobacco Control Program annual 2.5 day CDC-sponsored training workshop.

iii. One to two staff to attend Tobacco Program Training and Workshop—location TBD.

iv. If needed—a computer, modem, communication software, and a dedicated telephone line to support routine participation in web-related communications with tribes and partners.

If proposed contractors are known at the time of the application, provide the following:

1. Name of contractor/consultant.

2. Method of selection.

3. Method of accountability.

4. Scope of service.

5. Period of performance.

6. Detailed budget and justification.

For all applicants: Additional information may be included in the application appendices. The Appendices will not be counted toward the narrative page limit.

This additional information includes:

• Curriculum Vitas, Resumes, Organizational Charts, Letters of Support and/or Tribal Resolutions, etc.

The agency or organization is required to have a Dun and Bradstreet Data Universal Numbering System (DUNS) number to apply for a grant or cooperative agreement from the Federal government. The DUNS number is a nine-digit identification number, which uniquely identifies business entities. Obtaining a DUNS number is easy and there is no charge. To obtain an DUNS number, access http://www.dunandbradstreet.com or call 1-866-705-5711. For more information, see the CDC web site at: http://www.cdc.gov/od/pgo/funding/pubcommt.htm.

For more information, see the CDC Web site at: http://www.cdc.gov/od/pgo/funding/grantmain.htm.

If the application form does not have a DUNS number field, please write the DUNS number at the top of the first page of the application, and/or include the DUNS number in the application cover letter.

Additional requirements that may require submittal of additional documentation with the application are listed in section “VI.2. Administrative and National Policy Requirements.”

IV.3. Submission Dates and Times

Application Deadline Date: August 15, 2005.

Explanation of Deadlines: Applications must be received in the CDC Procurement and Grants Office by 4 pm Eastern Time on the deadline date.

Applications may be submitted electronically at www.grants.gov. Applications completed on-line through Grants.gov are considered formally submitted when the applicant organization's Authorizing Official electronically submits the application to www.grants.gov. Electronic applications will be considered as having met the deadline if the application has been submitted electronically by the applicant organization's Authorizing Official to Grants.gov on or before the deadline date and time.

If submittal of the application is done electronically through Grants.gov (http://www.grants.gov), the application will be electronically time/date stamped, which will serve as receipt of submission. Applicants will receive an e-mail notice of receipt when CDC receives the application.

If submittal of the application is by the United States Postal Service or commercial delivery service, the applicant must ensure that the carrier will be able to guarantee delivery by the closing date and time. If CDC receives the submission after the closing date due to: (1) Carrier error, when the carrier accepted the package with a guarantee for delivery by the closing date and time, or (2) significant weather delays or natural disasters, the applicant will be given the opportunity to submit documentation of the carrier's guarantee. If the documentation verifies a carrier problem, CDC will consider the submission as having been received by the deadline.

If a hard copy application is submitted, CDC will not notify the applicant upon receipt of the submission. If questions arise on the receipt of the application, the applicant should first contact the carrier. If the applicant still has questions, contact the PGO-TIM staff at (770) 488-2700. The applicant should wait two to three days after the submission deadline before calling. This will allow time for submissions to be processed and logged.

This announcement is the definitive guide on LOI and application content, submission address, and deadline. It supersedes information provided in the application instructions. If the submission does not meet the deadline above, it will not be eligible for review, and will be discarded. The applicant will be notified the application did not meet the submission requirements.

IV.4. Intergovernmental Review of Applications

Executive Order 12372 does not apply to this program.

IV.5. Funding Restrictions

Restrictions, which must be taken into account while writing your budget, are as follows:

• Funds may not be used for research.

• Reimbursement of pre-award costs is not allowed.

• Funds may not be used for construction.

If requesting indirect costs in the budget, a copy of the indirect cost rate agreement is required. If the indirect cost rate is a provisional rate, the agreement should be less than 12 months of age.

Guidance for completing the budget can be found on the CDC Web site, at the following Internet address: http://www.cdc.gov/od/pgo/funding/budgetguide.htm.

IV.6. Other Submission Requirements

Application Submission Address

Electronic Submission: CDC strongly encourages applicants to submit applications electronically at www.Grants.gov. The application package can be downloaded from www.Grants.gov. Applicants are able to complete it off-line, and then upload and submit the application via the Grants.gov Web site. E-mail submissions will not be accepted. If the applicant has technical difficulties in Grants.gov, costumer service can be reached by E-mail at http://www.grants.gov/CustomerSupport or by phone at 1-800-518-4726 (1-800-518-GRANTS). The Customer Support Center is open from 7 a.m. to 9 p.m. Eastern Time, Monday through Friday.

CDC recommends that submittal of the application to Grants.gov should be early to resolve any unanticipated difficulties prior to the deadline. Applicants may also submit a back-up paper submission of the application. Any such paper submission must be received in accordance with the requirements for timely submission detailed in Section IV.3. of the grant announcement. The paper submission must be clearly marked: “BACK-UP FOR ELECTRONIC SUBMISSION.” The paper submission must conform to all requirements for non-electronic submissions. If both electronic and back-up paper submissions are received by the deadline, the electronic version will be considered the official submission.

It is strongly recommended that the applicant submit the grant application using Microsoft Office products (e.g., Microsoft Word, Microsoft Excel, etc.). If the applicant does not have access to Microsoft Office products, a PDF file may be submitted. Directions for creating PDF files can be found on the Grants.gov Web site. Use of file formats other than Microsoft Office or PDF may result in the file being unreadable by staff.

or

Paper Submission: Applicants should submit the original and two hard copies of the application by mail or express delivery service to: Technical Information Management—RFA AA066, CDC Procurement and Grants office, 2920 Brandywine Road, Atlanta, GA 30341.

V. Application Review Information

V.1. Criteria

Applicants are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Capacity Applicants

The application will be evaluated against the following criteria:

1. Annual Action Plan (25 Points)

a. Are the objectives (SMART) and are they related to the identified needs and purposes of the program? (10)

b. Are the strategies and activities realistic and feasible for accomplishing the objectives? (5)

c. Are the roles and responsibilities of staff appropriate and are the timelines realistic to addressing the activities? (5)

d. Are appropriate indicators and measures of progress indicated? (5)

2. Capacity (20 Points)

a. Does the applicant describe relevant experiences and successes in developing and administering health-related programs? Is the experience on a National, Regional or Tribal level? (10)

b. Does the applicant describe its communication and information dissemination with tribes, tribal membership and/or urban AI/AN populations? (5)

c. To what extent does the applicant's organizational structure support the proposed program? (5)

3. Evaluation (20 Points)

a. How appropriate and extensive is the evaluation plan in measuring progress toward objectives as well as determining the degree to which program requirements will be met? (20)

4. Need (15 Points)

a. How well does the applicant describe and justify the need for developing, implementing and evaluating culturally relevant and community competent tobacco control and prevention? (5)

b. How well does the applicant describe the extent of the tobacco use problem in the AI/AN tribes and/or population to be served? (5)

c. How well does the applicant identify and describe the gaps, challenges, limitation and/or opportunities for implementing strategies and interventions? (3)

d. How well does the applicant describe the need for developing comprehensive and sustainable tobacco control and prevention programs? (2)

5. Executive Summary (10 Points)

a. To what extent does the applicant clearly define itself and its relationship to the tribes to be served, including past experiences and proposed plans to reach and work with the targeted population? (10)

6. Program Management (10 Points)

a. To what extent is the management plan logical, resourceful, and adequate to accomplish the purpose of the project? How well does the applicant address overcoming any anticipated challenges? (5)

b. How well does the applicant identify staff responsibilities and capabilities to carry out the activities? How useful are the documents provided (i.e. job descriptions and curriculum vitae)? (5)

7. Budget and Accompanying Justification (Reviewed But Not Scored)

a. Is the budget reasonable, itemized, and clearly justified? Is the budget aligned with the work plan and the intended use of funds?

Implementation Program Applicants

The application will be evaluated against the following criteria:

1. Annual Action Plan (25 Points)

a. Are the objectives specific, measurable, achievable, relevant and time-bound and are they related to the identified needs and purposes of the program? (10)

b. Are the strategies and activities realistic and feasible for accomplishing the objectives? (5)

c. Are the roles and responsibilities of staff appropriate and are the timelines realistic to addressing the activities? (5)

d. Are appropriate indicators and measures of progress indicated? (5)

2. Capacity (20 Points)

a. Does the applicant describe relevant experiences and successes in developing and administering tobacco control programs? How well does the applicant describe the capacities available to deliver mentoring to other tribes and tribal organizations? How well does the applicant describe its relationships with other tribal and non-tribal partners? (10)

b. To what extent does the applicant's organizational structure support the development of the proposed program? (10)

3. Evaluation (20 Points)

a. How appropriate and extensive is the evaluation plan in measuring progress toward objectives as well as determining the degree to which program requirements will be met? (10)

b. Does the applicant provide a reasonable logic model that links program activities to outputs and short-term and intermediate outcomes? (10)

4. Need (15 Points)

a. How well does the applicant describe and justify the need for evaluating the proposed product? Are any previous evaluation efforts discussed and how extensively was the product evaluated? (5)

b. How well does the applicant describe the need for developing culturally relevant and community competent interventions? (5)

c. How well does the applicant describe the need for assisting the Capacity programs in developing their capacity and infrastructure to deliver interventions? (3)

d. How well does the applicant describe the need for assisting tobacco control and prevention partners with outreach efforts to AI/AN tribes? (2)

5. Executive Summary (10 Points)

a. How clearly does the applicant define itself and its experiences in tobacco control and prevention? (4)

b. To what extent does the applicant describe its experience, capacity and readiness to implement the proposed program? (3)

c. How well does the applicant describe the programs to be evaluated for: Cultural relevance, community competence, effectiveness and ability to replicate? (3)

6. Program Management (10 Points)

a. To what extent is the management plan logical, resourceful, and adequate to accomplish the purpose of the project? How well does the applicant address overcoming any anticipated challenges? (5)

b. How well does the applicant identify staff responsibilities and capabilities to carry out the activities? How useful are the documents provided (i.e. job descriptions and curriculum vitae)? (5)

7. Budget and Accompanying Justification (Not Scored)

a. Is the budget reasonable, itemized, and clearly justified? Is the budget aligned with the work plan and the intended use of funds?

V.2. Review and Selection Process

Applications will be reviewed for completeness by the Procurement and Grants Office (PGO) staff and for responsiveness by NCCDPHP Office on Smoking and Health. Incomplete applications and applications that are non-responsive to the eligibility criteria will not advance through the review process. Applicants will be notified that their application did not meet submission requirements.

An objective review panel will evaluate complete and responsive applications according to the criteria listed in the “V.1. Criteria” section above. The objective review process will follow the policy requirements as stated in the GPD 2.04 (http://198.102.218.46/doc/gpd204.doc). The evaluation will be conducted by CDC employees outside the funding center.

Applications will be funded in order by score and rank determined by the review panel.

In addition, the following factors will affect the funding decision:

(a) Only one Capacity program award will be made within the geographical regions that have not been served by a CDC-funded tribe or tribal organization as defined on pages 17 and 18, section a, above.

(b) Up to one urban organization will be funded. An urban organization is defined as a non-profit corporate body situated in an urban center eligible for services under Title V of the Indian Health Care Improvement Act, PL 94-437, as amended.

CDC will provide justification for any decision to fund out of rank order.

V.3. Anticipated Announcement and Award Dates

The anticipated award date is August 31, 2005.

VI. Award Administration Information

VI.1. Award Notices

Successful applicants will receive a Notice of Award (NoA) from the CDC Procurement and Grants Office. The NoA shall be the only binding, authorizing document between the recipient and CDC. The NoA will be signed by an authorized Grants Management Officer, and mailed to the recipient fiscal officer identified in the application.

Unsuccessful applicants will receive notification of the results of the application review by mail.

VI.2. Administrative and National Policy Requirements

Successful applicants must comply with the administrative requirements outlined in 45 CFR Part 74 and Part 92 as Appropriate.

The following additional requirements apply to this project:

• AR-9 Paperwork Reduction Act Requirements.

• AR-10 Smoke-Free Workplace Requirements.

• AR-11 Healthy People 2010.

• AR-12 Lobbying Restrictions.

• AR-14 Accounting System Requirements.

• AR-15 Proof of Non-Profit Status.

Additional information on these requirements can be found on the CDC web site at the following Internet address: http://www.cdc.gov/od/pgo/funding/ARs.htm.

For more information on the Code of Federal Regulations, see the National Archives and Records Administration at the following Internet address: http://www.access.gpo.gov/nara/cfr/cfr-table-search.html.

An additional Certifications form from the PHS5161-1 application needs to be included in the Grants.gov electronic submission only. Applicants should refer to http://www.cdc.gov/od/pgo/funding/PHS5161-1-Certificates.pdf. Once the applicant has filled out the form, it should be attached to the Grants.gov submission as Other Attachments Form.

VI.3. Reporting Requirements

The applicant must provide CDC with an original, plus two hard copies of the following reports:

1. Interim progress report, due no less than 90 days before the end of the budget period. The progress report will serve as your non-competing continuation application, and must contain the following elements:

a. Current Budget Period Objectives.

b. Current Budget Period Financial Progress.

c. New Budget Period Program Proposed Activity Objectives.

d. Budget.

e. Measures of Effectiveness.

f. Additional Requested Information.

2. Annual progress report, due 30 days after the end of the budget period.

3. Financial Status report, due no more than 90 days after the end of the budget period.

4. Final financial and performance reports, due no more than 90 days after the end of the project period.

These reports must be mailed to the Grants Management or Contract Specialist listed in the “Agency Contacts” section of this announcement.

VII. Agency Contacts

We encourage inquiries concerning this announcement. For general questions, contact: Technical Information Management Section, CDC Procurement and Grants Office, 2920 Brandywine Road, Atlanta, GA 30341. Telephone: 770-488-2700.

For program technical assistance, contact: Lorene Reano, Project Officer, CDC, Office on Smoking and Health, 4770 Buford Hwy, MS-K50, Atlanta, GA 30341-3717. Telephone number: (505) 897-6478. E-mail: lir6@cdc.gov.

For financial, grants management, or budget assistance, contact: Ann Gatwood, Grants Management Specialist, CDC Procurement and Grants Office, 2920 Brandywine Road, Atlanta, GA 30341. Telephone: 770/488-2895. E-mail: glg4@cdc.gov.

VIII. Other Information

This and other CDC funding opportunity announcements can be found on the CDC web site, Internet address: www.cdc.gov. Click on “Funding” then “Grants and Cooperative Agreements”

Dated: July 8, 2005.
William P. Nichols,
Director, Procurement and Grants Office, Centers for Disease Control and Prevention.

[FR Doc. 05-13937 Filed 7-14-05; 8:45 am]

BILLING CODE 4163-18-P